ENVIRONMENTAL PROTECTION AGENCY

[FRL-7775-4]

Notice of Public Meeting of the National Environmental Education Advisory Council

Notice is hereby given that the National Environmental Education Advisory Council, established under section 9 of the National Environmental Education Act of 1990 (the Act), will hold a public meeting on July 29 and 30, 2004. The meeting will take place at 1200 Pennsylvania Ave., NW., Washington, DC, from 9 a.m. to 5 p.m. on Thursday, July 29th and Friday, July 30th. The purpose of this meeting is to provide the Council with the opportunity to advise EPA's Office of Public Affairs (OPA) and the Office of Environmental Education (OEE) on its implementation of the Act. Members of the public are invited to attend and submit written comments to EPA following the meeting.

For additional information regarding the Council's upcoming meeting, please contact Ginger Potter, Office of Environmental Education (1704A), Office of Public Affairs, U.S. Environmental Protection Agency, 1200 Pennsylvania Ave., NW., Washington, DC 20460 or call (202) 564-0453.

Dated: June 10, 2004.
Ginger Potter,
Designated Federal Official, National Environmental Education Advisory Council/

[FR Doc. 04-13853 Filed 6-17-04; 8:45 am]

BILLING CODE 6560-50-M